EXPORT-IMPORT BANK

[Public Notice: 2022-6005]

Agency Information Collection Activities: Final Collection; Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995. This collection of information is necessary to determine whether or not a company has a good payment history. This form will enable EXIM to make a credit decision on a foreign buyer credit limit request submitted by a new or existing policy holder. Additionally, this form is used by those EXIM policy holders granted delegated authority to commit the Bank to a foreign buyer credit limit.

DATES: Comments should be received on or before April 26, 2022 to be assured of consideration.

ADDRESSES: Comments may be submitted electronically on www.regulations.gov (EIB 99-14) or by email to Mia.Johnson@exim.gov, or by mail to Mia L. Johnson, Export-Import Bank of the United States, 811 Vermont Ave. NW, Washington, DC 20571. The form can be viewed at http://www.exim.gov/sites/default/files/pub/pending/eib99-14.pdf.

SUPPLEMENTARY INFORMATION: Titles and Form Number: EIB 99-14 Export-Import Bank Trade Reference form.

OMB Number: 3048-0042.

Type of Review: Renew.

Need and Use: This form provides essential credit information used by EXIM credit officers when analyzing requests for export credit insurance/financing support, both short-term (360 days and less) and medium-term (longer than 360 days), for the export of their U.S. goods and services. Additionally, this form is an integral part of the short term Multi-Buyer export credit insurance policy for those policy holders granted foreign buyer discretionary credit limit authority (DCL). Multi-Buyer policy holders given DCL authority may use this form as the sole source or one piece among several sources of credit information for their internal foreign buyer credit decision which, in turn, commits EXIM's insurance.

Affected Public: This form affects entities involved in the export of U.S. goods and services.

Annual Number of Respondents: 6,500.

Estimated Time per Respondent: 15 minutes.

Annual Burden Hours: 1,625 hours.

Frequency of Reporting or Use: As needed.

Government Expenses:

Reviewing Time per Year: 1,625 hours.

Average Wages per Hour: $42.50.

Average Cost per Year: $69,062 (time * wages).

Benefits and Overhead: 20%.

Total Government Cost: $82,875.

Bassam Doughman,
IT Specialist.

[FR Doc. 2022-03976 Filed 2-24-22; 8:45 am]

BILLING CODE 6690-01-P